DEPARTMENT OF COMMERCE

International Trade Administration

Dana-Farber Cancer Institute, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 15-047. Applicant: Dana-Farber Cancer Institute, Boston, MA 02210. Instrument: Electron Microscope. Manufacturer: JEOL Ltd., Japan. Intended Use: See notice at 81 FR 11517, March 4, 2016.

Docket Number: 15-051. Applicant: Iowa State University of Science and Technology, Ames, IA 50011-3020. Instrument: Electron Microscope. Manufacturer: FEI Company, Czech Republic and Great Britain. Intended Use: See notice at 81 FR 32724, May 24, 2016.

Docket Number: 15-054. Applicant: University of Connecticut Health Center, Farmington, CT 06030. Instrument: Electron Microscope. Manufacturer: FEI Company, Czech Republic. Intended Use: See notice at 81 FR 11517, March 4, 2016.

Docket Number: 15-056. Applicant: St. Jude Children's Research Hospital, Memphis, TN 38105. Instrument: Electron Microscope. Manufacturer: FEI Company, Czech Republic. Intended Use: See notice at 81 FR 11517, March 4, 2016.

Docket Number: 15-059. Applicant: Rutgers University, Piscataway, NJ 00854. Instrument: Low Temperature Scanning Tunneling Microscope. Manufacturer: Unisoku, Japan. Intended Use: See notice at 81 FR 11517, March 4, 2016.

Docket Number: 15-060. Applicant: Kent State University, Kent, OH 44242. Instrument: Electron Microscope. Manufacturer: FEI Company, the Netherlands. Intended Use: See notice at 81 FR 11517, March 4, 2016.

Docket Number: 16-003. Applicant: Oregon Health and Science University, Portland, OR 97239. Instrument: Electron Microscope. Manufacturer: FEI Company, the Netherlands. Intended Use: See notice at 81 FR 32724-25, May 24, 2016.

Docket Number: 16-006. Applicant: Texas Southwestern Medical Center, Dallas, TX 75390. Instrument: Electron Microscope. Manufacturer: FEI Company, the Netherlands. Intended Use: See notice at 81 FR 32724-25, May 24, 2016.

Docket Number: 16-009. Applicant: Stanford University, Stanford, CA 94305-5126. Instrument: Electron Microscope. Manufacturer: FEI Company, the Netherlands. Intended Use: See notice at 81 FR 32724, May 24, 2016.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: July 22, 2016.
Gregory W. Campbell,
Director, Subsidies Enforcement Office, Enforcement and Compliance.

[FR Doc. 2016-18018 Filed 7-28-16; 8:45 am]

BILLING CODE 3510-DS-P